DEPARTMENT OF TRANSPORTATION

Federal Aviation Administration

Approval of John F. Kennedy International Airport (JFK) Noise Compatibility Program

AGENCY: Federal Aviation Administration, DOT.

ACTION: Notice of approval of the John F. Kennedy International Airport (JFK) noise compatibility program.

SUMMARY: The Federal Aviation Administration (FAA) announces its findings for the noise compatibility program submitted by JFK. See SUPPLEMENTARY INFORMATION for details. On May 19, 2017, the FAA determined that the noise exposure maps submitted by JFK were in compliance with applicable requirements. On September 16, 2022, the FAA determined that the noise compatibility program submitted by JFK would be initiating final review for approval or disapproval. On March 14, 2023, the FAA approved the JFK noise compatibility program. The noise compatibility program contained 22 recommended measures, including seven noise abatement measures, three land use measures, and 12 program management measures. Of the measures proposed, 15 were approved, four were approved as voluntary, two were disapproved, and one was determined to have no FAA action as continuations of existing mandatory practices at JFK. Three of the seven noise abatement measures proposed at JFK are related to new or revised flight procedures.

DATES: The effective date of the FAA's approval of the JFK noise compatibility program is March 14, 2023.

FOR FURTHER INFORMATION CONTACT: Andrew Brooks, Regional Environmental Program Manager, Airports Division, Federal Aviation Administration, 1 Aviation Plaza, Room 516, Jamaica, NY 11434. Phone Number: 718-553-2511.

SUPPLEMENTARY INFORMATION: This notice announces FAA's approval of the noise compatibility program (NCP) for JFK, effective on March 14, 2023. Per United States Code section 47504 (49 U.S.C. 47504) and Title 14, Code of Federal Regulations (CFR) part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airports recommendations in their noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of FAA's approval of NCPs are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the noise compatibility program nor a determination that all measures covered by the NCP are eligible for grant-in-aid funding from the FAA. Where federal funding is sought, requests must be submitted to the FAA New York Airports District Office at 1 Aviation Plaza, Room 111, Jamaica, New York 11434.

JFK submitted the noise exposure maps, descriptions, and other documentation produced during the noise compatibility planning study to the FAA and the FAA determined that the NEMs for JFK were in compliance with applicable requirements under 14 CFR 150, effective May 19, 2017 (Noise Exposure Map Notice for John F. Kennedy International Airport, New York City, New York, 82 FR 24770-24771, May 30, 2017). The FAA formally received the NCP based on the accepted NEMs for JFK on September 7, 2022. The airport operator requested that the FAA review the submitted material and that the noise mitigation measures, to be implemented jointly by the airport and surrounding communities, be approved as an NCP. The formal review period, limited by law to a maximum of 180 days with the exception of noise abatement procedures, was initiated on September 16, 2022. Notice of the intent to review the NCP was published in the Federal Register on September 21, 2022 (Notice of Receipt and Request for Review of Noise Compatibility Program, 87 FR 57748, September 21, 2022). That Federal Register Notice also announced the start of a 60-day period of public review for the NCP documentation. The FAA received no comments from interested parties during the public review period.

The JFK proposed NCP is comprised of actions designed for phased implementation by airport management and adjacent jurisdictions within the next one to five years. It was requested that the FAA evaluate and approve this material as a noise compatibility program as described in 49 U.S.C. 47504. The FAA began its review of the program on September 16, 2022 and was required by a provision of 49 U.S.C. 47504 to approve or disapprove the program within 180 days, other than the use of new or modified flight procedures for noise control in accordance with 14 CFR part 150.35(a). Failure to approve or disapprove such program within the 180-day period shall be deemed an approval of such program.

The submitted program contained 22 proposed measures to minimize impacts of aviation noise on and off the airport. The FAA completed its review and determined that the procedural and substantive requirements of the 49 U.S.C. 47504 and 14 CFR part 150 were satisfied. A Record of Approval for the overall program was issued by the FAA effective March 14, 2023.

The specific program elements and their individual determinations are as follows:

Noise Abatement (NA) Measure 1: Implement “Tighten SKORR” Departure Procedure—Approved as Voluntary.

NA Measure 2: Turn Runway 22L and 22R Departures to Heading 240 at Night—Approved as Voluntary.

NA Measure 3: Reduce Runway 31L Intersection Departures at Night—Approved as Voluntary.

NA Measure 4: Combine “Tighten SKORR” Departure Procedure with Reduce Runway 31L Intersection Departures at Night—Approved as Voluntary.

NA Measure 5: Implement Noise Abatement Departure Profiles on a Voluntary Basis for Each Runway End—Disapproved for Purposes of Part 150.

NA Measure 6: Implement Nighttime Optimized Profile Descent Procedures—Disapproved for Purposes of Part 150.

NA Measure 7: Continue Existing Mandatory Departure Noise Limit and $250 Penalty—No Action.

Land Use (LU) Measure 1: Sound-Insulate Eligible Dwelling Units—Approved.

LU Measure 2: Sound-Insulate Eligible Non-Residential Noise-Sensitive Structures—Approved.

LU Measure 3: Include Aircraft Noise in Real Estate Disclosures—Approved.

Program Management (PM) Measure 1: Maintain Noise Office—Approved.

PM Measure 2: Maintain Noise and Operations Management System—Approved.

PM Measure 3: Maintain Public Flight Tracking Portal—Approved.

PM Measure 4: Maintain Noise Complaint Management System—Approved.

PM Measure 5: Maintain Noise Office website—Approved.

PM Measure 6: Continue Community Outreach Activities—Approved.

PM Measure 7: Establish and Manage a Fly Quiet Program—Approved as Voluntary.

PM Measure 8: Make Aircraft Noise Contours Available in a Geographic Information System (GIS)—Approved.

PM Measure 9: Update the Noise Exposure Map—Approved.

PM Measure 10: Update the Noise Compatibility Program—Approved.

PM Measure 11: Post Monthly Color-Coded DNL Values on Port Authority website—Approved.

PM Measure 12: The Port Authority to Coordinate with the FAA on Development and Implementation of NextGen Procedures—Approved.

These determinations are set forth in detail in the Record of Approval signed by the FAA Airports Eastern Division Director on March 14, 2023. The Record of Approval, as well as other evaluation materials and the documents comprising the submittal, are available for review at the FAA office listed above. The Record of Approval also will be available on the internet on the FAA's website at https://www.faa.gov/airports/environmental/airport_noise/part_150/states/ and the Port Authority of New York and New Jersey's website at https://panynjpart150.com/JFK_documents.asp.

Issued in Jamaica, NY, on March 15, 2023.
David A. Fish,
Director, Airports Division, Eastern Region.

[FR Doc. 2023-05577 Filed 3-17-23; 8:45 am]

BILLING CODE 4910-13-P